DEPARTMENT OF DEFENSE

Office of the Secretary

[Transmittal No. 24-52]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6523, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-52, Policy Justification, and Sensitivity of Technology.

Dated: September 30, 2025.
Aaron T. Siegel,
Alternate OSD Federal Register Liaison Officer, Department of Defense.

BILLING CODE 6001-FR-P

BILLING CODE 6001-FR-C

Transmittal No. 24-52

Notice of Proposed Issuance of Letter of Offer Pursuant to Section 36(b)(1) of the Arms Export Control Act, as amended

(i) Prospective Purchaser: Government of the Netherlands

(ii) Total Estimated Value:

Major Defense Equipment * | $607 million
Other | $ 71 million
TOTAL | $678 million

(iii) Description and Quantity or Quantities of Articles or Services under Consideration for Purchase:

Major Defense Equipment (MDE):

One hundred seventy-four (174) Advanced Medium-Range Air-to-Air Missiles-Extended Range (AMRAAM-ER)

Four (4) AMRAAM-C8 guidance sections

Non-MDE:

Also included is the following non-MDE: AMRAAM containers, load trainers, control section spares and support equipment; KGV-135A cryptographic devices; Common Munition Built-in-Test (BIT)/Reprogramming Equipment (CMBRE); ADU-891 Adaptor Group Test Sets; integration and test support and equipment; munitions support and support equipment; spare parts, consumables, and accessories, and repair and return support; classified software delivery and support; classified and unclassified publications, and technical documentation; personnel training and training equipment; studies and surveys; Contractor Logistics Support (CLS); U.S. Government and contractor engineering, technical and logistics support services; and other related elements of logistics and program support.

(iv) Military Department: Air Force (NE-D-YAJ)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: June 13, 2024

* as defined in Section 47(6) of the Arms Export Control Act.

POLICY JUSTIFICATION

The Netherlands—Advanced Medium-Range Air-to-Air Missiles-Extended Range

The Government of the Netherlands has requested to buy one-hundred seventy-four (174) Advanced Medium-Range Air-to-Air Missiles-Extended Range (AMRAAM-ER) and four AMRAAM-C8 guidance sections. Also included is the following non-MDE: AMRAAM containers, load trainers, control section spares and support equipment; KGV-135A cryptographic devices; Common Munition Built-in-Test (BIT)/Reprogramming Equipment (CMBRE); ADU-891 Adaptor Group Test Sets; integration and test support and equipment; munitions support and support equipment; spare parts, consumables, and accessories, and repair and return support; classified software delivery and support; classified and unclassified publications, and technical documentation; personnel training and training equipment; studies and surveys; Contractor Logistics Support (CLS); U.S. Government and contractor engineering, technical and logistics support services; and other related elements of logistics and program support. The estimated total cost is $678 million.

This proposed sale will support the foreign policy goals and national security objectives of the United States by improving the security of a North Atlantic Treaty Organization (NATO) Ally that is a force for political stability and economic progress in Europe.

The proposed sale will improve the Netherlands' capability to meet current and future threats by providing advanced air defense missiles as part of an upgraded Medium Range Air Defense (MRAD) system and thereby enhancing its air defense capability. This enhanced capability will protect the Netherlands and local allied forces, and will significantly improve the Netherlands' contribution to NATO Integrated Air and Missile Defense. The Netherlands will have no difficulty absorbing these articles and services into its armed forces.

The proposed sale of this equipment and support will not alter the basic military balance in the region.

The principal contractor will be RTX Corporation, located in Camden, AR. The purchaser typically requires offsets. Any offset agreement will be defined in negotiations between the purchaser and the contractor.

Implementation of this proposed sale will not require the assignment of any additional U.S. Government or contractor representatives to the Netherlands.

There will be no adverse impact on U.S. defense readiness as a result of this proposed sale.

Transmittal No. 24-52

Notice of Proposed Issuance of Letter of Offer Pursuant to Section 36(b)(1) of the Arms Export Control Act

Annex

Item No. vii

(vii) Sensitivity of Technology:

1. The Advanced Medium-Range Air-to-Air Missile (AMRAAM) is a supersonic, air-launched, aerial intercept guided missile featuring digital technology and microminiature solid-state electronics. AMRAAM capabilities include look-down/shoot-down, multiple launches against multiple targets, resistance to electronic countermeasures, and interception of high- and low-flying and maneuvering targets. This potential sale will include AMRAAM guidance sections, control sections, warhead spares, and containers.

2. The Advanced Medium-Range Air-to-Air Missile-Extended Range (AMRAAM-ER) is a surface-launched missile that utilizes an AIM-120C-7 or C-8 seeker and warhead. It is joined with a separate control section and rocket motor for surface launch, making it different from the traditional air-launched AMRAAM. This provides extended range and altitude as well as higher speed and maneuverability.

3. The KGV-135A is a high-speed, general purpose encryptor/decryptor module used for wide-band data encryption.

4. The Common Munitions Built-In-Test (BIT)/Reprogramming Equipment (CMBRE) is support equipment used to interface with weapon systems to initiate and report BIT results, and upload and download flight software. CMBRE supports multiple munitions platforms with a range of applications that perform preflight checks, periodic maintenance checks, loading of Operational Flight Program (OFP) data, loading of munitions mission planning data, loading of Global Positioning System (GPS) cryptographic keys, and declassification of munitions memory.

5. The ADU-891 Adapter Group Test Set provides the physical and electrical interface between the CMBRE and the missile.

6. The highest level of classification of defense articles, components, and services included in this potential sale is SECRET.

7. If a technologically advanced adversary were to obtain knowledge of the specific hardware and software elements, the information could be used to develop countermeasures that might reduce weapon system effectiveness or be used in the development of a system with similar or advanced capabilities.

8. A determination has been made that the Netherlands can provide substantially the same degree of protection for the sensitive technology being released as the U.S. Government. This proposed sale is necessary in furtherance of the U.S. foreign policy and national security objectives outlined in the Policy Justification.

9. All defense articles and services listed in this transmittal have been authorized for release and export to the Government of the Netherlands.

[FR Doc. 2025-19378 Filed 10-1-25; 8:45 am]

BILLING CODE 6001-FR-P